INTERNATIONAL TRADE COMMISSION

[Investigation Nos. 731-TA-873-875, 878-880, and 882 (Second Review)]

Steel Concrete Reinforcing Bar From Belarus, China, Indonesia, Latvia, Moldova, Poland, and Ukraine

Determinations

On the basis of the record ¹ developed in the subject five-year reviews, the United States International Trade Commission (Commission) determines, pursuant to section 751(c) of the Tariff Act of 1930 (19 U.S.C. 1675(c)), that revocation of the antidumping duty orders on steel concrete reinforcing bar from Belarus, China, Indonesia, Latvia, Moldova, Poland, and Ukraine would be likely to lead to continuation or recurrence of material injury to an industry in the United States within a reasonably foreseeable time.²

¹ The record is defined in sec. 207.2(f) of the Commission's Rules of Practice and Procedure (19 CFR § 207.2(f)).

² Commissioners Daniel R. Pearson and Meredith M. Broadbent dissenting with respect to Indonesia, Latvia, and Poland. Commissioner Daniel R. Pearson dissenting with respect to Belarus, Moldova, and Ukraine.

Background

The Commission instituted these reviews on July 2, 2012 (77 FR 39254) and determined on October 5, 2012 that it would conduct full reviews (77 FR 64127, October 18, 2012). Notice of the scheduling of the Commission's reviews and of a public hearing to be held in connection therewith was given by posting copies of the notice in the Office of the Secretary, U.S. International Trade Commission, Washington, DC, and by publishing the notice in the Federal Register on December 3, 2012 (77 FR 71631). The hearing was held in Washington, DC, on April 25, 2013, and all persons who requested the opportunity were permitted to appear in person or by counsel.

The Commission transmitted its determinations in these reviews to the Secretary of Commerce on July 2, 2013. The views of the Commission are contained in USITC Publication 4409 (July 2013), entitled Steel Concrete Reinforcing Bar from Belarus, China, Indonesia, Latvia, Moldova, Poland, and Ukraine: Investigation Nos. 731-TA-873-875, 878-880, and 882 (Second Review).

By order of the Commission.
Issued: July 3, 2013.
Lisa R. Barton,
Acting Secretary to the Commission.

[FR Doc. 2013-16398 Filed 7-8-13; 8:45 am]

BILLING CODE 7020-02-P